OFFICE OF PERSONNEL MANAGEMENT

5 CFR Part 532

RIN 3206-AN20

Prevailing Rate Systems; Definition of Hancock County, Mississippi, to a Nonappropriated Fund Federal Wage System Wage Area

AGENCY: U.S. Office of Personnel Management.

ACTION: Proposed rule with request for comments.

SUMMARY: The U.S. Office of Personnel Management (OPM) is issuing a proposed rule that would define Hancock County, Mississippi, as an area of application county to the Harrison, MS, nonappropriated fund (NAF) Federal Wage System (FWS) wage area. This change is necessary because there are four NAF FWS employees working in Hancock County, and the county is not currently defined to a NAF wage area.

DATES: We must receive comments on or before September 28, 2015.

ADDRESSES: You may submit comments, identified by “RIN 3206-AN20,” using any of the following methods:

Federal eRulemaking Portal: http://www.regulations.gov. Follow the instructions for submitting comments.

Mail: Brenda L. Roberts, Deputy Associate Director for Pay and Leave, Employee Services, U.S. Office of Personnel Management, Room 7H31, 1900 E Street NW., Washington, DC 20415-8200.

Email: pay-leave-policy@opm.gov.

FOR FURTHER INFORMATION CONTACT: Madeline Gonzalez, by telephone at (202) 606-2858 or by email at pay-leave-policy@opm.gov.

SUPPLEMENTARY INFORMATION: OPM is issuing a proposed rule that would define Hancock County, MS, as an area of application to the Harrison, MS, NAF FWS wage area. The Navy Exchange and Navy Morale, Welfare, and Recreation in Hancock County is now operating NAF activities at the John C. Stennis Space Center, located in southwestern Mississippi, with a combined total of four NAF employees.

Under section 532.219 of title 5, Code of Federal Regulations, each NAF wage area “shall consist of one or more survey areas, along with nonsurvey areas, if any, having nonappropriated fund employees.” Hancock County does not meet the regulatory criteria under 5 CFR 532.219 to be established as a separate NAF wage area; however, nonsurvey counties may be combined with a survey area to form a wage area. Section 532.219 lists the regulatory criteria that OPM considers when defining FWS wage area boundaries:

• Proximity of largest facilities activity in each county;

• Transportation facilities and commuting patterns; and

• Similarities of the counties in:

○ Overall population,

○ Private employment in major industry categories, and

○ Kinds and sizes of private industrial establishments.

Based on an analysis of the regulatory criteria for defining NAF wage areas, Hancock County, MS, should be defined as an area of application to Harrison, MS, NAF FWS wage area. The proximity criterion favors the Harrison, MS, wage area more than the Orleans, LA, wage area. The transportation facilities criterion does not favor one wage area more than another. The commuting patterns criterion favors the Harrison wage area. Although the overall population, employment sizes, and kinds and sizes of private industrial establishments criterion does not favor one wage area more than another, the industrial distribution pattern for Hancock County is more similar to the Harrison survey area than to the Orleans survey area. While a standard review of regulatory criteria shows mixed results, the proximity and commuting patterns criteria solidly favor the Harrison wage area. Based on this analysis, we propose that Hancock County be defined to the Harrison NAF wage area.

The proposed expanded Harrison NAF wage area would consist of one survey county (Harrison County, MS) and four area of application counties (Mobile County, AL, and Forrest, Hancock, and Jackson Counties, MS). The Federal Prevailing Rate Advisory Committee, the national labor-management committee responsible for advising OPM on matters concerning the pay of FWS employees, recommended this change by consensus. This change would be effective on the first day of the first applicable pay period beginning on or after 30 days following publication of the final regulations.

Regulatory Flexibility Act

I certify that these regulations would not have a significant economic impact on a substantial number of small entities because they would affect only Federal agencies and employees.

List of Subjects in 5 CFR Part 532

Administrative practice and procedure, Freedom of information, Government employees, Reporting and recordkeeping requirements, Wages.

U.S. Office of Personnel Management.
Beth F. Cobert,
Acting Director.

Accordingly, the U.S. Office of Personnel Management is proposing to amend 5 CFR part 532 as follows:

PART 532—PREVAILING RATE SYSTEMS

1. The authority citation for part 532 continues to read as follows:

Authority: 5 U.S.C. 5343, 5346; § 532.707 also issued under 5 U.S.C. 552.

Appendix D to Subpart B of Part 532—Nonappropriated Fund Wage and Survey Areas

2. Appendix D to subpart B is amended by revising the wage area listing for the Harrison, NAF wage areas to read as follows:

* * * * *
MISSISSIPPI
* * * * *
Harrison
Survey Area
Mississippi:
Harrison
Area of Application. Survey area plus:
Alabama:
Mobile
Mississippi:
Forrest
Hancock
Jackson
* * * * *

[FR Doc. 2015-21193 Filed 8-26-15; 8:45 am]

BILLING CODE 6325-39-P